COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities, and delete product(s) and service(s) previously furnished by such agencies.

DATES: Comments must be received on or before: June 13, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following service(s) are proposed for addition to the Procurement List for production by the nonprofit agencies listed:

Service(s)

Service Type: Third Party Logistics Support Services

Mandatory for: US Army, Army Contracting Command, Aberdeen Proving Ground, MD

Designated Source of Supply: Goodwill Industries of South Florida, Inc., Miami, FL

Contracting Activity: DEPT OF THE ARMY, W6QK ACC-APG

Deletions

The following product(s) and service(s) are proposed for deletion from the Procurement List:

Product(s)

NSN(s)—Product Name(s):

8465-00-753-6335—Kit, Maintenance

Contracting Activity: DLA TROOP SUPPORT, PHILADELPHIA, PA

NSN(s)—Product Name(s):

7920-01-512-9343—Mop Head, Wet, Looped-End, Anti-Microbial, 22 oz., Green

7920-01-512-9345—Mop Head, Wet, Looped-End, Anti-Microbial, 22 oz., Blue

7920-01-512-8965—Mop Head, Wet, Looped-End, Anti-Microbial, 32 oz., Green

7920-01-512-8972—Mop Head, Wet, Looped-End, Anti-Microbial, 32 oz., Blue

7920-00-782-3784—Flat Mop Frame, Plastic, 24″, Handles

Mandatory Source of Supply: Alphapointe, Kansas City, MO

Contracting Activity: GSA/FSS GREATER SOUTHWEST ACQUISITI, FORT WORTH, TX and STRATEGIC ACQUISITION CENTER, FREDERICKSBURG, VA

NSN(s)—Product Name(s):

7930-01-513-1144—Cleaner, Glass, Floral, 1 Gallon

7930-01-512-7172—Cleaner, Washroom, Multi-Surface, Biobased, 1 Gal

7930-01-512-7759—Cleaner, All-Purpose, Low Foam, Biobased, 1 Gal

7930-01-513-6571—Cleaner, Heavy Duty, Biobased, Citrus, 1 Gal

Designated Source of Supply: The Lighthouse for the Blind, St. Louis, MO

Contracting Activity: GSA/FSS GREATER SOUTHWEST ACQUISITI, FORT WORTH, TX

NSN(s)—Product Name(s):

7520-01-587-9640—Pen, Ballpoint, Retractable, 3 Pack, Black, Fine Point

Designated Source of Supply: Industries for the Blind and Visually Impaired, Inc., West Allis, WI

Contracting Activity: GSA/FAS ADMIN SVCS ACQUISITION BR(2, NEW YORK, NY

Service(s)

Service Type: Photocopying

Mandatory for: Environmental Protection Agency, Research Triangle PK, NC

Mandatory Source of Supply: Winston-Salem Industries for the Blind, Inc., Winston-Salem, NC

Contracting Activity: ENVIRONMENTAL PROTECTION AGENCY, US ENVIRONMENTAL PROTECTION AGENCY

Michael R. Jurkowski,
Deputy Director, Business Operations.

[FR Doc. 2021-10217 Filed 5-13-21; 8:45 am]

BILLING CODE 6353-01-P